DEPARTMENT OF TRANSPORTATION

Federal Aviation Administration

14 CFR Part 198

Aviation Insurance

CFR Correction

In title 14 of the Code of Federal Regulations, parts 140 to 199, revised as of January 1, 2008, on page 316, in § 198.3, in paragraph (a), revise the reference “§ 198.19” to read “§ 198.1”.

[FR Doc. E8-30838 Filed 12-23-08; 8:45 am]

BILLING CODE 1505-01-D